DEPARTMENT OF COMMERCE

National Oceanic and Atmospheric Administration

50 CFR Part 648

[Docket No. 200212-0053; RTID 0648-XA663]

Fisheries of the Northeastern United States; Blueline Tilefish Fishery; 2020 Blueline Tilefish Commercial Quota Harvested

AGENCY: National Marine Fisheries Service (NMFS), National Oceanic and Atmospheric Administration (NOAA), Commerce.

ACTION: Temporary rule; closure of the blueline tilefish commercial fishery.

SUMMARY: Federal commercial tilefish permit holders are prohibited from fishing for, catching, possessing, transferring or landing tilefish in the Tilefish Management Unit for the remainder of the 2020 fishing year. This action is required when NMFS projects that 100 percent of the 2020 total allowable landings will have been caught by the effective date. This action is intended to prevent over-harvest of blueline tilefish for the fishing year.

DATES: Effective 0001 hr local time, November 21, 2020, through December 31, 2020.

FOR FURTHER INFORMATION CONTACT: Laura Hansen, Fishery Management Specialist, (978) 281-9225.

SUPPLEMENTARY INFORMATION: Regulations for the blueline tilefish fishery are at 50 CFR part 648. The regulations at § 648.295(b)(2)(ii) require that when NMFS projects that blueline tilefish catch will reach 100 percent of the total allowable landings (TAL), the Regional Administrator must close the commercial blueline tilefish fishery for the remainder of the fishing year. No vessel may retain or land blueline tilefish in or from the Tilefish Management Unit after the announced closure date. NMFS monitors the blueline tilefish fishery catch based on dealer reports, state data, and other available information. When 100 percent of the TAL is projected to be landed, NMFS must publish a notice in the Federal Register notifying blueline tilefish vessel and dealer permit holders of the closure date.

The Regional Administrator has determined, based on dealer reports and other available information, that the blueline tilefish commercial fishery will catch 100 percent of the TAL by November 21, 2020. Effective 0001 November 21, 2020, vessels may not retain or land blueline tilefish in or from the Tilefish Management Unit through December 31, 2020.

Classification

NMFS issues this action pursuant to section 305(d) of the Magnuson-Stevens Act. This action is required by 50 CFR part 648, which was issued pursuant to section 304(b), and is exempt from review under Executive Order 12866.

NMFS finds good cause pursuant to 5 U.S.C. 553(b)(B) and 5 U.S.C. 553(d)(3) to waive prior notice and the opportunity for public comment and the delayed effectiveness period because it would be contrary to the public interest and impracticable. Data and other information indicating the blueline tilefish commercial fishery will have landed 100 percent of the TAL have only recently become available. Landings data are updated by dealer reports dealers on a weekly basis, and NMFS monitors data as catch increases toward the limit. This action is routine and formulaic. The regulations at § 648.295(b)(2)(ii) require such action to ensure that blueline tilefish commercial vessels do not exceed the 2020 TAL. If implementation of this action is delayed, the TAL for the 2020 fishing year may be exceeded, thereby undermining the conservation objectives of the Tilefish Fishery Management Plan. Also, the public had prior notice and full opportunity to comment on this process when the provisions regarding closures and the 2020 quota levels were put in place.

Authority: 16 U.S.C. 1801 et seq.

Dated: November 18, 2020.
Jennifer M. Wallace,
Acting Director, Office of Sustainable Fisheries, National Marine Fisheries Service.

[FR Doc. 2020-25925 Filed 11-19-20; 4:15 pm]

BILLING CODE 3510-22-P